DEPARTMENT OF TRANSPORTATION

Federal Aviation Administration

14 CFR Part 39

[Docket No. 2003-NM-111-AD; Amendment 39-13654; AD 2004-11-08]

RIN 2120-AA64

Airworthiness Directives; Airbus Model A330, A340-200, and A340-300 Series Airplanes

AGENCY: Federal Aviation Administration, DOT.

ACTION: Final rule.

SUMMARY: This amendment adopts a new airworthiness directive (AD), applicable to certain Airbus Model A330, A340-200, and A340-300 series airplanes, that requires replacement of flap rotary actuators with modified flap rotary actuators. This action is necessary to prevent fatigue failure of the rotary actuator lever for the flaps, which could result in loss of the flap surface and consequent reduced controllability of the airplane. This action is intended to address the identified unsafe condition.

DATES: Effective July 13, 2004.

The incorporation by reference of certain publications listed in the regulations is approved by the Director of the Federal Register as of July 13, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A330, A340-200, and A340-300 series airplanes was published in the Federal Register on February 13, 2004 (69 FR 7181). That action proposed to require replacement of flap rotary actuators with modified flap rotary actuators.

Comments

Interested persons have been afforded an opportunity to participate in the making of this amendment. The FAA has duly considered the comments received.

Request To Reference Latest Revisions of Service Information

One commenter, the airplane manufacturer, requests that we revise the proposed AD to refer to Airbus Service Bulletins A330-27-3106 (for Model A330 series airplanes) and A340-27-4111 (for Model A340-200 and -300 series airplanes), both Revision 02, both dated February 4, 2004. The proposed AD refers to the original issue of those service bulletins, dated February 18, 2003, as the acceptable sources of service information for the accomplishment of the proposed actions.

We concur with the commenter's request. The procedures in Revision 01, dated April 8, 2003, and Revision 02 of the referenced service bulletins are essentially the same as those in the original issue of the service bulletins. Revision 02 of the service bulletins adds references to Liebherr-Aerospace Lindenberg GmbH Service Bulletins 697510-27-03 and 697511-27-03, both dated December 5, 2003, as additional sources of service information for replacing the subject flap rotary actuators. Accordingly, we have revised paragraph (a) of this AD to refer to Revision 02 of the Airbus service bulletins as the appropriate sources of service information for accomplishment of the required actions. We have also added a new paragraph (b) (and reidentified subsequent paragraphs accordingly) to state that replacements accomplished before the effective date of this AD per the original issue or Revision 01 of the service bulletins are acceptable for compliance with this AD. Also, we have revised Note 1 of this AD to add references to the new Liebherr-Aerospace Lindenberg GmbH service bulletins.

Request To Revise Compliance Threshold

The same commenter requests that we revise the proposed AD to make the compliance threshold for the proposed actions consistent with that specified in the parallel French airworthiness directives. The commenter notes that, while paragraph (a) of the proposed AD specifies doing the replacement at the later of the times specified in paragraphs (a)(1) and (a)(2) of this AD, French airworthiness directives 2003-140(B) and 2003-141(B), both dated April 2, 2003, specify doing the replacement at the earlier of those times.

We concur. The reference to the “later” of the times in paragraphs (a)(1) and (a)(2) of the proposed AD was inadvertent, and was due to a misinterpretation of the French airworthiness directives. We intend the requirements of this AD and the compliance times for those requirements to be the same as those in the parallel French airworthiness directives. (We state no difference from the French airworthiness directives in the proposed AD.) We have revised paragraph (a) of this AD to require compliance at the earlier of the times specified in paragraphs (a)(1) and (a)(2) of this AD. We have determined that no U.S.-registered airplane is close to the compliance threshold, so this change should not increase the economic burden on any operator.

Difference Between the French Airworthiness Directive and This AD

The applicability of French airworthiness directives 2003-140(B) and 2003-141(B), both dated April 2, 2003, excludes airplanes on which Airbus Service Bulletin A330-27-3106 (for Model A330 series airplanes) or A340-27-4111 (for Model A340-200 and -300 series airplanes) has been accomplished in service. However, we have not excluded those airplanes from the applicability of this AD. Rather, this AD includes a requirement to accomplish the actions specified in those service bulletins. Such a requirement ensures that the actions specified in the service bulletins and required by this AD are accomplished on all affected airplanes. Operators must continue to operate the airplane in the configuration required by this AD unless an alternative method of compliance is approved.

Conclusion

After careful review of the available data, including the comments noted above, we have determined that air safety and the public interest require the adoption of the rule with the changes described previously. We have determined that these changes will neither increase the economic burden on any operator nor increase the scope of the AD.

Cost Impact

We estimate that 9 airplanes of U.S. registry will be affected by this AD, that it will take approximately 45 work hours per airplane to accomplish the required replacement, and that the average labor rate is $65 per work hour. Required parts will cost approximately $35,000 per airplane. Based on these figures, the cost impact of this AD on U.S. operators is estimated to be $341,325, or $37,925 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-11-08 Airbus: Amendment 39-13654. Docket 2003-NM-111-AD.

Applicability: Model A330, A340-200, and A340-300 series airplanes; except for those on which Airbus Modification 50044 has been accomplished in production, certificated in any category.

Compliance: Required as indicated, unless accomplished previously.

To prevent fatigue failure of the rotary actuator lever for the flaps, which could result in loss of the flap surface and consequent reduced controllability of the airplane, accomplish the following:

Replacement

(a) Replace the flap rotary actuators with modified flap rotary actuators in accordance with the Accomplishment Instructions of Airbus Service Bulletin A330-27-3106 (for Model A330 series airplanes) or A340-27-4111 (for Model A340-200 and -300 series airplanes), both Revision 02, both dated February 4, 2004, as applicable. Do the replacement at the earlier of the times specified in paragraphs (a)(1) and (a)(2) of this AD.

(1) Prior to the accumulation of 18,000 total flight cycles.

(2) Within 12 years since the date of issuance of the original Airworthiness Certificate, or within 12 years since the date of issuance of the original Export Certificate of Airworthiness, whichever occurs first.

(b) Replacements accomplished before the effective date of this AD in accordance with Airbus Service Bulletin A330-27-3106 (for Model A330 series airplanes) or A340-27-4111 (for Model A340-200 and -300 series airplanes), both dated February 18, 2003; or Revision 01 of those service bulletins, both dated April 8, 2003; as applicable; are acceptable for compliance with paragraph (a) of this AD.

Note 1: Airbus Service Bulletins A330-27-3106 and A340-27-4111, both Revision 02, reference Liebherr-Aerospace Lindenberg GmbH Service Bulletins 697510-27-02 and 697511-27-02, both dated February 21, 2003; and Liebherr-Aerospace Lindenberg GmbH Service Bulletins 697510-27-03 and 697511-27-03, both dated December 5, 2003; as additional sources of service information for accomplishment of the replacement.

Alternative Methods of Compliance

(c) In accordance with 14 CFR 39.19, the Manager, International Branch, ANM-116, Transport Airplane Directorate, FAA, is authorized to approve alternative methods of compliance (AMOCs) for this AD.

Incorporation by Reference

(d) Unless otherwise specified in this AD, the actions shall be done in accordance with Airbus Service Bulletin A330-27-3106, Revision 02, dated February 4, 2004; or Airbus Service Bulletin A340-27-4111, Revision 02, dated February 4, 2004; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in French airworthiness directives 2003-140(B), dated April 2, 2003, and 2003-141(B), dated April 2, 2003.

Effective Date

(e) This amendment becomes effective on July 13, 2004.

Issued in Renton, Washington, on May 20, 2004.
Ali Bahrami,
Acting Manager, Transport Airplane Directorate, Aircraft Certification Service.

[FR Doc. 04-12572 Filed 6-7-04; 8:45 am]

BILLING CODE 4910-13-P